DEPARTMENT OF ENERGY

Federal Energy Regulatory Commission

[Docket No. PF07-10-000]

LNG Development Company, LLC and Oregon Pipeline Company; Notice of Intent To Prepare an Environmental Impact Statement for the Proposed Oregon LNG Terminal and Pipeline Project, Request for Comments on Environmental Issues and Notice of Public Meetings

August 24, 2007.

The Federal Energy Regulatory Commission (FERC or Commission) and the U.S. Department of Homeland Security, U.S. Coast Guard (Coast Guard) are in the process of evaluating the Oregon LNG Terminal and Pipeline Project involving the construction and operation of facilities proposed by LNG Development Company, LLC and Oregon Pipeline Company (collectively referred to as Oregon LNG). The facilities would be located in northern Oregon and consist of a liquefied natural gas (LNG) import terminal in Warrenton, Oregon, and an associated 117-mile-long natural gas pipeline from the LNG import terminal southeastward across Clatsop, Washington, Yamhill, Marion, and Clackamas Counties, Oregon, to an interconnection with the existing Williams Northwest Pipeline system near Molalla, Oregon.

As a part of this evaluation, FERC staff will prepare an environmental impact statement (EIS) that will address the environmental impacts of the project and the Coast Guard will assess the safety and security of the project. As described below, the FERC and the Coast Guard will hold a joint public meeting to allow the public to provide input to these assessments.

The Commission will use the EIS in its decision-making process to determine whether or not to authorize the project. This Notice of Intent (NOI) explains the scoping process we ¹ will use to gather information on the project from the public and interested agencies and summarizes the process that the Coast Guard will use. Your input will help identify the issues that need to be evaluated in the EIS and in the Coast Guard's safety and security assessment.

¹ ``We,'' ``us,'' and ``our'' refer to the environmental staff of the FERC's Office of Emergy Projects.

The FERC will be the lead federal agency in the preparation of an EIS that will satisfy the requirements of the National Environmental Policy Act (NEPA). The Coast Guard will serve as a cooperating agency during preparation of the EIS. In addition, the U.S. Army Corps of Engineers; U.S. Department of Commerce, National Oceanic and Atmospheric Administration, National Marine Fisheries Service; the U.S. Environmental Protection Agency; the U.S. Department of the Interior, Fish and Wildlife Service; and the Oregon Department of Energy have been requested to serve as cooperating agencies in preparation of the EIS.

Comments on the project may be submitted in written form or verbally. Further details on how to submit written comments are provided in the Public Participation section of this NOI. In lieu of sending written comments, we invite you to attend the public scoping meetings scheduled as follows:

Tuesday, September 18, 2007, 7:00 p.m.

Warrenton High School Gymnasium, 1700 SE Main Street, Warrenton, OR 97146, telephone: 503-861-3317 (contact: Rod Heyen).

Wednesday, September 19, 2007, 7:00 p.m.

Forest Grove Armory, 2950 Taylor Way, Forest Grove, OR 97116-1541, telephone: 971-219-7297 (contact: Steve Johnson).

Thursday, September 20, 2007, 7:00 p.m.

Woodburn City Council Chambers, 270 Montgomery St., Woodburn, OR 97071, telephone: 503-982-5228 (contact: Jan Clay).

The first public scoping meeting listed above (Warrenton) will be combined with the Coast Guard's public meeting regarding the maritime safety and security of the project. At the meeting, the Coast Guard will discuss: (1) The waterway suitability assessment that the applicant will conduct to determine whether or not the waterway can safely accommodate the LNG carrier traffic and operation of the planned LNG marine terminal; and (2) the facility security assessment that the applicant will conduct in accordance with the regulations of the Maritime Transportation Security Act to assist with the preparation of a Facility Security Plan.

The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in Title 33 Code of Federal Regulations (CFR) Part 105, and recommendation for siting as it pertains to the management of vessel traffic in and around the LNG facility.

Upon receipt of a Letter of Intent from an owner or operator intending to build a new LNG facility, the Coast Guard Captain of the Port conducts an analysis based on:

• The physical location and layout of the facility and its berthing and mooring arrangements;

• The LNG vessels' characteristics and the frequency of LNG shipments to the facility;

• Commercial, industrial, environmentally sensitive, and residential areas in and adjacent to the waterway used by the LNG vessels en route to the facility;

• Density and character of the marine traffic on the waterway;

• Bridges or other man-made obstructions in the waterway;

• Depth of water;

• Tidal range;

• Natural hazards, including rocks and sandbars;

• Underwater pipelines and cables; and

• Distance of berthed LNG vessels from the channel, and the width of the channel.

This analysis results in a Letter of Recommendation issued to the owner or operator and to the state and local governments having jurisdiction, addressing the suitability of the waterway to accommodate LNG vessels, as prescribed by 33 CFR 127.009.

In addition, the Coast Guard will review and approve the facility's operations manual and emergency response plan (33 CFR 127.019), as well as the facility's security plan (33 CFR 105.410). The Coast Guard will also provide input to other federal, state, and local government agencies reviewing the project.

In order to complete a thorough analysis and fulfill the regulatory mandates cited above, the applicant will be conducting a Waterway Suitability Assessment (WSA), a formal risk assessment evaluating the various safety and security aspects associated with the Oregon LNG Terminal and Pipeline Project. This risk assessment will be accomplished through a series of workshops focusing on the areas of waterways safety, port security, and consequence management, with involvement from a broad cross-section of government and port stakeholders with expertise in each of the respective areas. The workshops will be by invitation only. However, comments received during the public comment period will be considered as input in the risk assessment process. The results of the WSA will be submitted to the Coast Guard to be used in determining whether the waterway is suitable for LNG traffic.

This NOI is being sent to federal, state, and local government agencies; elected officials; affected landowners; environmental and public interest groups; Indian tribes and regional Native American organizations; commentors and other interested parties; and local libraries and newspapers. We encourage government representatives to notify their constituents of this planned project and encourage them to comment on their areas of concern.

Summary of the Proposed Project

Oregon LNG proposes to construct and operate an LNG import terminal and storage facility, and associated natural gas sendout pipeline with a capacity to deliver up to 1.5 billion cubic feet per day. More specifically, Oregon LNG proposes the following primary project components:

• A marine facility, including LNG unloading equipment and one ship berth capable of handling about 150 LNG carrier ships per year (the capacity of the ships could range from 70,000 to 260,000 cubic meters (m³) per ship);

• Interconnecting facilities including piping, electrical, and control systems;

• An LNG spill containment and collection system;

• Three full containment LNG storage tanks, each with a nominal usable storage capacity of 160,000 m³;

• Vapor handling, re-gasification, and sendout systems;

• Utilities, telecommunications, and other supporting systems;

• Administrative, control room, warehouse, security, and other buildings and enclosures;

• Interconnecting roadways and civil works; and

• A 117-mile-long, 30 to 36-inch-diameter natural gas sendout pipeline extending from the LNG terminal to the interconnection with the existing interstate natural gas pipeline system operated by Williams Northwest Pipeline.

A location map depicting Oregon LNG's proposed facilities is attached to this NOI as Appendix 1.²

² The appendices referenced in this notice are not being printed in the Federal Register. Copies are available on the Commission's Web site (excluding maps) at the “e-Library” link or from the Commission's Public Reference Room or call (202) 501-8371. For instructions on connecting to e-Library refer to the end of this notice. Copies of the appendices were sent to all those receiving this notice in the mail.

The EIS Process

NEPA requires the Commission to take into account the environmental impacts that could result from an action when it considers whether or not an LNG import terminal or an interstate natural gas pipeline should be approved. The FERC will use the EIS to consider the environmental impacts that could result if it issues project authorizations to Oregon LNG under sections 3 and 7 of the Natural Gas Act. In addition, the Coast Guard will use the EIS to determine if a Letter of Recommendation should be issued, with or without conditions, under 33 CFR § 127.009. NEPA also requires us to discover and address concerns the public may have about proposals. This process is referred to as “scoping.” The main goal of the scoping process is to focus the analysis in the EIS on the important environmental issues. With this NOI, the Commission staff is requesting public comments on the scope of the issues to be addressed in the EIS. All comments received will be considered during preparation of the EIS.

In the EIS we will discuss impacts that could occur as a result of the construction, operation, and maintenance of the proposed project under these general headings:

• Geology and soils.

• Water resources.

• Aquatic resources.

• Vegetation and wildlife.

• Threatened and endangered species.

• Land use, recreation, and visual resources.

• Cultural resources.

• Socioeconomics.

• Marine transportation.

• Air quality and noise.

• Reliability and safety.

• Cumulative impacts.

In the EIS, we will also evaluate possible alternatives to the proposed project or portions of the project, and make recommendations on how to lessen or avoid impacts on affected resources.

Our independent analysis of the issues will be included in a draft EIS. The draft EIS will be mailed to federal, state, and local government agencies; elected officials; affected landowners; environmental and public interest groups; Indian tribes and regional Native American organizations; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this NOI.

Although no formal application has been filed, the FERC staff has already initiated its NEPA review under its pre-filing process. The purpose of the pre-filing process is to encourage early involvement of interested stakeholders and to identify and resolve issues before an application is filed with the FERC. In addition, the Coast Guard, which would be responsible for reviewing the safety and security aspects of the planned project and regulating safety and security if the project is approved, has initiated its review of the project as well.

With this NOI, we are asking federal, state, and local agencies with jurisdiction and/or special expertise with respect to environmental issues, in addition to those agencies that have already agreed to serve as cooperating agencies (as noted above), to formally cooperate with us in the preparation of the EIS. These agencies may choose to participate once they have evaluated the proposal relative to their responsibilities. Additional agencies that would like to request cooperating agency status should follow the instructions for filing comments provided under the Public Participation section of this NOI.

Currently Identified Environmental Issues

We have already identified issues that we think deserve attention based on our previous experience with similar projects in the region. This preliminary list of issues, which is presented below, may be revised based on your comments and our continuing analyses specific to the Oregon LNG Terminal and Pipeline Project.

• Impact of LNG vessel traffic on other users, including commercial ships, fishing, and recreational boaters on the lower Columbia River.

• Potential impacts of dredging the turning basin and LNG ship dock on water quality and estuarine fishery resources.

• Potential impacts of the LNG terminal on residents in Warrenton and the surrounding area, including safety issues at the import and storage facility, noise, air quality, and visual resources.

• Potential for geological hazards, including seismic activity, to have impacts on both the proposed LNG import terminal and sendout pipeline.

• Potential impacts of the pipeline on waterbodies and wetlands, including issues of erosion control.

• Potential impacts of the pipeline on vegetation, including the clearing of forested areas.

• Potential impacts of the pipeline on threatened and endangered species and wildlife habitat.

• Potential impacts of the pipeline on cultural resources.

Public Participation

You can make a difference by providing us with your specific comments or concerns about the Oregon LNG Terminal and Pipeline Project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Kimberly D. Bose, Secretary, Federal Energy Regulatory Commission, 888 First St., NE., Room 1A, Washington, DC 20426.

• Label one copy of your comments for the attention of OEP/DG2E/Gas Branch 2, PJ-11.2.

• Reference Docket No. PF07-10-000 on the original and both copies.

• Mail your comments so that they will be received in Washington, DC, on or before September 24, 2007.

The Commission strongly encourages electronic filing of any comments in response to this NOI. For information on electronically filing comments, please see the instructions on the Commission's Web site at http://www.ferc.gov under the “e-Filing” link and the link to the User's Guide as well as information in 18 CFR 385.2001(a)(1)(iii). Before you can file comments you will need to create a free account, which can be accomplished on-line.

The public scoping meetings (dates, times, and locations listed above) are designed to provide another opportunity to offer comments on the proposed project. Interested groups and individuals are encouraged to attend the meetings and to present comments on the environmental issues that they believe should be addressed in the EIS. A transcript of the meetings will be generated so that your comments will be accurately recorded.

Once Oregon LNG formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

If you wish to remain on the environmental mailing list, please return the attached Mailing List Retention Form (Appendix 2 of this NOI). If you do not return this form, we will remove your name from our mailing list.

Additional Information

Additional information about the project is available from the Commission's Office of External Affairs at 1-866-208-FERC (3372), or on the FERC Internet Web site (http://www.ferc.gov) using the “eLibrary link.” Click on the eLibrary link, select “General Search” and enter the project docket number, excluding the last three digits (i.e., PF07-10) in the “Docket Number” field. Be sure you have selected an appropriate date range. For assistance with eLibrary, the eLibrary helpline can be reached at 1-866-208-3676, TTY (202) 502-8659, or by e-mail at FERCOnlineSupport@ferc.gov. The eLibrary link on the FERC Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Oregon LNG has established an Web site for this project at http://www.oregonlng.com. The Web site includes a project overview, status, potential impacts and mitigation, and answers to frequently asked questions. You can also request additional information by calling Oregon LNG directly at 503-298-4969, or by sending an e-mail to info@OregonLNG.com.

Kimberly D. Bose,
Secretary.

[FR Doc. E7-17259 Filed 8-30-07; 8:45 am]

BILLING CODE 6717-01-P